DEPARTMENT OF THE INTERIOR

Bureau of Land Management

[LLCA932000.L13400000.DQ0000.LXSSB0020000.16X]

Notice of Availability of the Desert Renewable Energy Conservation Plan Proposed Land Use Plan Amendment to the California Desert Conservation Plan and the Bakersfield and Bishop Resource Management Plans and Final Environmental Impact Statement

AGENCY: Bureau of Land Management, Interior.

ACTION: Notice.

SUMMARY: In accordance with the National Environmental Policy Act of 1969, as amended, and the Federal Land Policy and Management Act of 1976, as amended (FLPMA), the Bureau of Land Management (BLM) has prepared a Proposed Land Use Plan Amendment (LUPA) and Final Environmental Impact Statement (EIS) for the Desert Renewable Energy Conservation Plan (DRECP). This LUPA would amend the California Desert Conservation Area (CDCA) Plan and the Bakersfield and Bishop Resource Management Plans (RMPs). By this notice, the BLM is announcing the availability of the Proposed LUPA and Final EIS.

DATES: BLM planning regulations state that any person who meets the conditions as described in the regulations may protest the BLM's Proposed LUPA/Final EIS. A person who meets the conditions and files a protest must do so within 30 days of the date that the Environmental Protection Agency publishes its Notice of Availability in the Federal Register.

ADDRESSES: Copies of the DRECP Proposed LUPA and Final EIS have been sent to affected Federal, State, and local government agencies, affected tribal governments, and to other stakeholders. The Proposed LUPA and Final EIS are available for review online at www.drecp.org and www.blm.gov/ca/drecp. See the SUPPLEMENTARY INFORMATION section below for a list of locations where copies of the Proposed LUPA and Final EIS are available for public inspection.

All protests must be in writing and mailed to one of the following addresses: Regular Mail: BLM Director (210), Attention: Protest Coordinator, P.O. Box 71383, Washington, DC 20024-1383; Overnight Delivery: BLM Director (210), Attention: Protest Coordinator, 20 M Street SE., Room 2134LM, Washington, DC 20003.

FOR FURTHER INFORMATION CONTACT: Vicki Campbell, Program Manager, DRECP, telephone 916-978-4401; address BLM California State Office, 2800 Cottage Way, Suite W-1623, Sacramento, CA; email vlcampbell@blm.gov. To request a DVD, please send an email to drecp.info@energy.ca.gov or call 1-866-936-7477 to provide a mailing address. Persons who use a telecommunications device for the deaf (TDD) may call the Federal Information Relay Service (FIRS) at 1 800-877-8339 to contact the above individual during normal business hours. The FIRS is available 24 hours a day, 7 days a week, to leave a message or question with the above individual. You will receive a reply during normal business hours.

SUPPLEMENTARY INFORMATION: The BLM developed the DRECP to: (1) Advance Federal and State natural resource conservation goals and other Federal land management goals; (2) Meet the requirements of the Federal Endangered Species Act, Omnibus Public Land Management Act of 2009 (OPLMA), California Endangered Species Act, Natural Community Conservation Planning Act, and FLPMA in the Mojave and Colorado/Sonoran desert region of Southern California; and (3) Facilitate the timely and streamlined permitting of renewable energy projects. The Draft DRECP includes a strategy that identifies and maps potential areas for renewable energy development and areas for long-term natural resource conservation. The Draft DRECP was published on September 26, 2014 (79 FR 57971), and comments were accepted until February 23, 2015.

In March 2015, the DRECP partner agencies (the BLM, California Energy Commission, U.S. Fish and Wildlife Service, and California Department of Fish and Wildlife) announced a phased approach to completing the DRECP. As part of this approach, the BLM's component of the DRECP is being finalized first in Phase I, outlining important designations for conservation and renewable energy on public lands.

The Proposed DRECP LUPA would amend the CDCA Plan for the entire CDCA, and the RMPs for portions of the Bishop and Bakersfield Field Offices, which includes the Mojave Desert and Colorado/Sonoran Desert ecoregion subareas in California. The DRECP Plan Area includes all or a portion of the following counties: Imperial, Inyo, Kern, Los Angeles, Riverside, San Bernardino, and San Diego. The DRECP Plan Area covers approximately 22,585,000 acres, of which approximately 9,784,000 acres are BLM-administered lands. An additional 1,085,000 acres of BLM-administered lands are within the CDCA but outside of the DRECP Plan Area.

The BLM's objectives for the Proposed DRECP LUPA and Final EIS are to:

• Conserve biological, physical, cultural, social, and scenic resources;

• Promote renewable energy and transmission development, consistent with Federal renewable energy and transmission goals and policies, in consideration of State renewable energy targets;

• Comply with all applicable Federal laws, including the BLM's obligation to manage the public lands consistent with FLPMA;

• “Preserve the unique and irreplaceable resources, including archaeological values, and conserve the use of the economic resources” of the CDCA (FLPMA 601(a)(6), 43 U.S.C. 1781(a)(6));

• Incorporate goals, objectives, and allowable uses on areas of the public lands managed for conservation purposes within the CDCA and which the BLM identifies as components of the National Landscape Conservation System, consistent with the Omnibus Public Land Management Act of 2009 (Public Law 111-11);

• Amend land use plans consistent with the criteria in FLPMA and the CDCA Plan;

• Coordinate planning and management activities with other Federal, State, local, and tribal planning and management programs by considering the policies of approved land resource management programs, to the extent consistent with Federal law; and

• Make some land use allocation decisions outside the DRECP area but within the CDCA, including Visual Resource Management Classes and land use allocations to replace multiple-use classes.

Following the publication of the Proposed LUPA and Final EIS, the BLM expects to issue a decision that will identify the public lands in the CDCA that Congress included in the National Landscape Conservation System under Section 2002(b)(2)(D) of Public Law 111-11. The Proposed LUPA and Final EIS would define the goals, objectives, and allowable uses within those lands. It would also identify areas suitable for renewable energy development (Development Focus Areas or DFAs); Areas of Critical Environmental Concern and Wildlife Allocation Areas; areas suitable for an emphasis on recreation (Special Recreation Management Areas and Extensive Recreation Management Areas), and areas that would continue to be managed for other uses. In addition, the Proposed LUPA and Final EIS contemplate modifications in the management of recreation (including the establishment of Special Recreation Management Areas and Extensive Recreation Management Areas), allowing for continued exploration of mineral resources, establishment of Visual Resource Management Classes, and grazing. The Proposed LUPA and Final EIS also incorporate proposed mitigation measures to be considered in relation to future authorized uses on the public lands and activities on non-public lands that could adversely affect public land resources. The BLM consulted with tribes and carefully considered tribal comments when developing proposed DFAs and conservation areas and other elements of the proposed LUPA.

The Proposed DRECP LUPA and Final EIS include the BLM's proposed alternative, four additional action alternatives, and a no action alternative. Action alternatives analyzed in detail are the result of integrating varying locations and configurations for renewable energy and conservation on BLM-managed lands. These alternatives were developed through the interagency process that led to the development of the Draft DRECP. The preferred alternative in the draft DRECP/Draft EIS has been modified based on public comment.

The alternatives differ in the following ways:

• Areas suitable for renewable energy: The alternatives range from 81,000 acres of Development Focus Areas (Alternative 1) to 718,000 acres of Development Focus Areas (Alternative 2). Under the No Action Alternative, 2,804,000 acres would be open to some form of renewable energy development. The Proposed Alternative identifies 388,000 acres of Development Focus Areas. The alternatives include Conservation and Management Actions for development in these areas.

• Conservation Designations: With respect to lands to be included in the National Landscape Conservation System, the alternatives range from 3,264,000 acres (Alternative 1) to 5,113,000 acres (Alternative 2). Under the No Action Alternative, no lands would be identified as National Conservation Lands, although 2,966,000 acres would remain as Areas of Critical Environmental Concern. The Proposed Alternative would identify 3,856,000 acres of National Conservation Lands. The alternatives also analyze a range of management actions for National Conservation Lands. In addition, the Proposed LUPA and Final EIS would identify new and expanded Areas of Critical Environmental Concern. The Proposed Alternative would identify approximately 4,717,000 acres of ACECs, although approximately 3,337,000 acres would overlap with proposed National Conservation Lands.

• Recreation: The Proposed LUPA and Final EIS would identify Special Recreation Management Areas (SRMAs) and Extensive Recreation Management Areas (ERMAs). The alternatives range from 2,537,000 acres of SRMA (Alternative 1) and 2,458,000 acres of SRMA (Proposed Alternative). The Proposed Alternative would also include 946,000 acres of ERMAs. Under the No Action Alternative, there would be zero acres of ERMA, 193,000 acres of SRMA, and 1,465,000 acres managed for recreation emphasis.

Comments on the Draft RMP/Draft EIS received from the public and internal BLM review were considered and incorporated as appropriate into the proposed plan. Public comments resulted in the addition of clarifying text, but did not significantly change proposed land use plan decisions.

Instructions for filing a protest with the Director of the BLM regarding the Proposed LUPA/Final EIS may be found in the “Dear Reader” Letter of the DRECP Proposed LUPA and Final EIS and at 43 CFR 1610.5-2. All protests must be in writing and mailed to the appropriate address, as set forth in the ADDRESSES section above. Emailed protests will not be accepted as valid protests unless the protesting party also provides the original protest by either regular or overnight mail postmarked by the close of the protest period. Under these conditions, the BLM will consider the emailed protest as an advance copy and it will receive full consideration. If you wish to provide the BLM with such advance notification, please direct emails to: protest@blm.gov.

Copies of the Proposed LUPA and Final EIS are available for public inspection at the following locations:

• BLM California State Office, 2800 Cottage Way, Suite W-1623, Sacramento, CA 95825;

• BLM California Desert District Office, 22835 Calle San Juan De Los Lagos, Moreno Valley, CA 92553;

• BLM Barstow Field Office, 2601 Barstow Road, Barstow, CA 92311;

• BLM El Centro Field Office, 1661 S. 4th Street, El Centro, CA 92243;

• BLM Needles Field Office, 1303 S. Highway 95, Needles, CA 92363;

• BLM Palm Springs South Coast Field Office, 1201 Bird Center Drive,

Palm Springs, CA 92262;

• BLM Ridgecrest Field Office, 300 S. Richmond Road, Ridgecrest, CA 93555;

• BLM Bakersfield Field Office, 3801 Pegasus Drive, Bakersfield, CA 93308;

• BLM Bishop Field Office, 351 Pacu Lane, Suite 100, Bishop, CA 93514; and

• FWS Palm Springs Fish and Wildlife Office, 777 East Tahquitz Canyon Way, Suite 208, Palm Springs, CA 92262.

Electronic copies will also be available at public libraries throughout the Planning Area. See the project Web site above or contact the BLM for further information on other locations.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Thomas Pogacnik,
Deputy State Director, Bureau of Land Management.

[FR Doc. 2015-28791 Filed 11-12-15; 8:45 am]

BILLING CODE 4310-40-P